DEPARTMENT OF TRANSPORTATION

Federal Aviation Administration

14 CFR Part 39

[Docket No. 94-ANE-38-AD]

Airworthiness Directives; Honeywell International Inc. (formerly AlliedSignal Inc. and Textron Lycoming Inc.) LTS101 Series Turboshaft and LTP101 Series Turboprop Engines

AGENCY: Federal Aviation Administration, DOT.

ACTION: Notice of proposed rulemaking.

SUMMARY: This document proposes the supersedure of an existing airworthiness directive (AD), applicable to certain Honeywell International Inc. (formerly AlliedSignal Inc. and Textron Lycoming Inc.) LTS101 series turboshaft and LTP101 series turboprop engines. The existing airworthiness directive (AD) superseded priority letter AD 94-19-01 and currently requires initial and repetitive inspections of the engine fuel pump internal drive splines for wear, and replacement of engine fuel pumps that exhibit wear beyond specified limits.

This proposal would require a reduction in inspection intervals for the engine fuel pump internal drive splines. This proposal is prompted by a report from the engine manufacturer that 13 percent of the pumps installed on aircraft that were returned from the field for the required 900-hour interval inspection revealed excessive internal drive spline wear. The actions specified by this proposal are intended to prevent worn splines in fuel pumps that could cause engine fuel pump failure, which can result in total engine power loss and possible loss of the aircraft.

DATES: Comments must be received by November 27, 2000.

ADDRESSES: Submit comments to the Federal Aviation Administration (FAA), New England Region, Office of the Regional Counsel, Attention: Rules Docket No. 94-ANE-38-AD, 12 New England Executive Park, Burlington, MA 01803-5299. Comments may also be sent via the Internet using the following address: “9-ane-adcomment@faa.gov”. Comments sent via the Internet must contain the docket number in the subject line. Comments may be inspected at this location between 8:00 a.m. and 4:30 p.m., Monday through Friday, except Federal holidays.

The service information referenced in the proposed rule may be obtained from Honeywell International, Inc, Attn: Data Distribution, M/S 64-3/2101-201, P.O. Box 29003, Phoenix, AZ 85038-9003, telephone: (602) 365-2493, fax: (602) 365-5577. This information may be examined at the FAA, New England Region, Office of the Assistant Chief Counsel, 12 New England Executive Park, Burlington, MA.

FOR FURTHER INFORMATION CONTACT: Robert Baitoo, Aerospace Engineer, Los Angeles Aircraft Certification Office, FAA, Transport Airplane Directorate, 3960 Paramount Blvd., Lakewood, CA 90712-4137; telephone (562) 627-5245, fax (562) 627-5210.

SUPPLEMENTARY INFORMATION:

Comments Invited

Interested persons are invited to participate in the making of the proposed rule by submitting such written data, views, or arguments, as they may desire. Communications should identify the Rules Docket number and be submitted to the address specified above. All communications received on or before the closing date for comments, specified above, will be considered before taking action on the proposed rule. The proposals contained in this notice may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this notice must submit a self-addressed, stamped postcard on which the following statement is made: “Comments to Docket Number 94-ANE-38-AD.” The postcard will be date stamped and returned to the commenter.

Availability of NPRM's

Any person may obtain a copy of this NPRM by submitting a request to the FAA, New England Region, Office of the Regional Counsel, Attention: Rules Docket No. 94-ANE-38-AD, 12 New England Executive Park, Burlington, MA 01803-5299.

Discussion

On April 17, 1995, the Federal Aviation Administration (FAA) issued airworthiness directive (AD) 95-09-02, Amendment 39-9206 (60 FR 20189, April 25, 1995), applicable to Textron Lycoming LTS101 series turboshaft and LTP101 series turboprop engines incorporating Chandler Evans (CECO) engine fuel pumps, Part Numbers 4-301-128-01, -02, -03, -04, -05, -06, -07, -08, -09, -10. This AD superseded Priority Letter AD 94-19-01, issued on September 2, 1994. The current AD requires initial and repetitive inspections for wear of LTS101 and LTP101 engine fuel pump internal drive splines installed on single-engine aircraft and replacement with a serviceable part of engine fuel pumps that exhibit wear beyond the limits specified in the incorporated service bulletin. That action was prompted by a report of a helicopter accident that resulted in a total loss of engine power and subsequent autorotation of a helicopter powered by a Textron Lycoming Model LTS101-600A-3 turboshaft engine. Investigation of that accident and other engine failures showed that CECO Model MFP261 engine fuel pump internal drive spline teeth were worn away and failed to engage, resulting in loss of fuel delivery to the engine. That condition, if not corrected, could result in engine fuel pump failure, which can result in total engine power loss and possible loss of the aircraft.

Recent Analysis

Since the issuance of AD 95-09-02, a number of removed fuel pumps have been returned to CECO. The FAA has learned that 13 percent of the pumps that were returned from the field for the required 900-hour interval inspection revealed excessive internal drive spline wear. Accordingly, the FAA has determined that the inspection interval must be reduced to 600-hour intervals.

Service Information

The FAA has reviewed and approved the contents of AlliedSignal Service Bulletin (SB) LT 101-73-20-0203, dated August 18, 1999, that informs operators of the new inspection intervals and the drawdown schedule for in-service pumps. This AD is applicable to pumps installed on single-engine aircraft only.

Proposed Actions

Since an unsafe condition has been identified that is likely to exist or develop on other engines of this same type design, this proposed AD would supersede AD 95-09-02 to require initial and repetitive inspections for wear of the engine fuel pump internal drive splines, and replacement of engine fuel pumps that exhibit wear beyond the limits specified in AlliedSignal Engines SB No. LT101-73-20-0203 dated August 18, 1999, with a serviceable part. Fuel pumps removed in accordance with this AD must be returned to CECO for disassembly, inspection, and repair because of the specialized tools and procedures required. These actions must be done in accordance with the SB described previously.

Economic Analysis

Because initial removal and replacement activities are scheduled at intervals compatible with existing AD 95-09-02, no additional impact on part and labor cost is anticipated.

Regulatory Impact

This proposal does not have federalism implications, as defined in Executive Order 13132, because it would not have a substantial direct effect on the States, on the relationship between the national government and the States, or on the distribution of power and responsibilities among the various levels of government. Accordingly, the FAA has not consulted with state authorities prior to publication of this proposal.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-9206 (60 FR 20189, April 25, 1995) and by adding a new airworthiness directive to read as follows:

Honeywell International Inc.: Docket No. 94-ANE-38-AD. Supersedes AD 95-09-02, Amendment 39-9206.

Applicability: Honeywell International Inc. (formerly AlliedSignal Inc. and Textron Lycoming Inc.) LTS101-600A-2, -600A-3 series turboshaft and LTP101-600A-1A, -700A-1A series turboprop engines incorporating Chandler Evans (CECO) engine fuel pumps, part numbers (P/N) 4-301-128-01, -02, -03, -04, -05, -06, -07, -08, -09, and -10. These engines are installed on but not limited to the following single-engine aircraft: Eurocopter France (formerly Aerospatiale) AS350D series helicopters and Airtractor AT302, PAC Aero Cresco, and Page (Ayres S-2R) Thrush airplanes. This proposed AD is not applicable to engines installed on twin-engine aircraft.

Note 1: This airworthiness directive (AD) applies to each engine identified in the preceding applicability provision, regardless of whether it has been modified, altered, or repaired in the area subject to the requirements of this AD. For engines that have been modified, altered, or repaired so that the performance of the requirements of this AD is affected, the owner/operator must request approval for an alternative method of compliance in accordance with paragraph (g) of this AD. The request should include an assessment of the effect of the modification, alteration, or repair on the unsafe condition.

Compliance: Required as indicated, unless accomplished previously.

To prevent engine fuel pump failure, which can result in total engine power loss and possible loss of the aircraft, accomplish the following:

Initial Inspection

(a) Remove from service and return to CECO for inspection, engine fuel pumps with greater than 751 hours time in service (TIS) since new or overhaul on the effective date of this airworthiness directive (AD), within the next 100 hours TIS after the effective date of this AD but prior to reaching 900 hours TIS since new or overhaul. All pumps must be inspected before 900 hours TIS since new, overhaul, time between inspection, or time since last inspection in accordance with AlliedSignal Engines SB No. LT101-73-20-0203, dated August 18, 1999.

(b) Remove from service and return to CECO for inspection, engine fuel pumps with greater than 451 hours TIS since new or overhaul, but less than or equal to 750 hours TIS since new or overhaul on the effective date of this AD, within the next 150 hours TIS after the effective date of this AD, in accordance with AlliedSignal Engines SB No. LT101-73-20-0203, dated August 18, 1999.

(c) Remove from service and return to CECO for inspection, engine fuel pumps with less than or equal to 450 hours TIS since new or overhaul on the effective date of this AD, within the next 150 hours TIS after the effective date of this AD, or before accumulating 600 hours TIS since new, overhaul, time between inspection, or time since last inspection, whichever occurs first, in accordance with AlliedSignal Engines SB No. LT101-73-20-0203, dated August 18, 1999.

Repetitive Inspections

(d) Thereafter, remove from service and return to CECO for inspection, engine fuel pump at intervals not to exceed 600 hours TIS since the last inspection in accordance with the Accomplishment Instructions of AlliedSignal Engines SB No. LT101-73-20-0203, dated August 18, 1999.

(e) Engine fuel pumps that exhibit wear beyond the limits specified in AlliedSignal Engines SB No. LT101-73-20-0203, dated August 18, may not be returned to service.

Definition

(f) For the purposes of this AD, a serviceable part is defined as a new part, or a part that has been inspected by CECO in accordance with AlliedSignal Engines SB LT101-73-20-0203, dated August 18, 1999, and that has not accumulated 600 hours TIS since new, or since inspection by CECO.

Alternative Method of Compliance

(g) An alternative method of compliance or adjustment of the compliance time that provides an acceptable level of safety may be used if approved by the Manager, Los Angeles Aircraft Certification Office (ACO). Operators shall submit their request through an appropriate FAA Principal Maintenance Inspector, who may add comments and then send it to the Manager, ACO.

Note 2: Information concerning the existence of approved alternative methods of compliance with this airworthiness directive, if any, may be obtained from the ACO. The request should be forwarded through an appropriate FAA Principal Maintenance Inspector, who may add comments and then send it to the Manager, Los Angeles Aircraft Certification Office.

Ferry Flights

(h) Special flight permits may be issued in accordance with sections 21.197 and 21.199 of the Federal Aviation Regulations (14 CFR 21.197 and 21.199) to operate the aircraft to a location where the requirements of this AD can be accomplished.

Issued in Burlington, Massachusetts, on September 19, 2000.
Jay J. Pardee,
Manager, Engine and Propeller Directorate, Aircraft Certification Service.

[FR Doc. 00-24629 Filed 9-25-00; 8:45 am]

BILLING CODE 4910-13-P